DEPARTMENT OF HEALTH AND HUMAN SERVICES

Food and Drug Administration

[Docket No. FDA-2010-N-0480]

Integrated Food Safety System Online Collaboration Development—Cooperative Agreement With the National Center for Food Protection and Defense (U18)

AGENCY: Food and Drug Administration, HHS.

ACTION: Notice.

SUMMARY: The Food and Drug Administration (FDA) is announcing its intention to receive and consider a single source application for the award of a cooperative agreement in fiscal year 2010 (FY10) to the National Center for Food Protection and Defense (NCFPD). One of the primary goals of the NCFPD is to allow FDA to meet the White House Food Safety Working Group recommendation that the Federal government prioritize crucial inspection and enforcement activity across the world; support safety efforts by States, localities, and businesses at home; and utilize data to guide these efforts and evaluate their outcomes.

DATES: Important dates are as follows:

1. The application due date is September 27, 2010.

2. The anticipated start date is September 2010.

3. The opening date is September 27, 2010.

4. The expiration date is September 30, 2010.

FOR FURTHER INFORMATION AND ADDITONAL REQUIREMENTS CONTACT: Center Contact: Heather Brown, Food and Drug Administration, Office of Regulatory Affairs, 5600 Fishers Lane, rm. 13-45, Rockville, MD 20857, 301-796-4304, FAX: 301-443-7270, email: heather.brown@fda.hhs.gov.

Grants Management Contact: Kimberly Pendleton, Division of Acquisition Support and Grants (HFA-500), Food and Drug Administration, 5630 Fishers Lane, rm. 2104, Rockville, MD 20857, 301-827-9363, FAX: 301-827-7101, email: Kimberly.Pendleton@fda.hhs.gov.

For more information on this funding opportunity announcement (FOA) and to obtain detailed requirements, please refer to the full FOA located at http://www.fda.gov/Food/NewsEvents/ucm176500.htm.

SUPPLEMENTARY INFORMATION:

I. Funding Opportunity Description

Catalog of Federal Domestic Assistance Number: 93.103

A. Background

This funding opportunity is a single source application for the award of a cooperative agreement to the NCFPD to support the continued development and operations of collaborative online tools involving a range of stakeholders for the purposes of information sharing in the development of an integrated food safety system, and the development and implementation of a sustainable model for continued collaborative communications and information sharing. Competition is limited to NCFPD because it has unique expertise and capacity found nowhere else. It is the host/creator of FoodSHIELD, an inter-governmental collaborative project supporting information sharing at the Federal, State, and local levels. NCFPD also has past experience directly supporting the White House Food Safety Working Group Objectives to integrate the food safety system at all levels.

B. Research Objectives

Food can become contaminated at many different points—on the farm, in processing or distribution facilities, during transit, at retail and food service establishments, and in the home. In recent years, FDA, in cooperation with other food regulatory and public health agencies, has done a great deal to prevent both intentional and unintentional contamination of food at each of these points. FDA has worked with other Federal, State, local, tribal, territorial, and foreign counterpart food safety regulatory and public health agencies, as well as with law enforcement and intelligence-gathering agencies, industry, consumer groups, and academia to strengthen the Nation's food safety and food defense system across the entire distribution chain.

This cooperation has resulted in greater awareness of potential vulnerabilities, the creation of more effective prevention programs, new surveillance systems, and the ability to quickly respond to outbreaks of foodborne illness. However, changes in consumer dietary patterns, changes in industry practices, changes in the U.S. population, and an increasingly globalized food supply chain and new pathogens and other contaminants pose challenges that are requiring us to adapt our current food protection strategies.

Recognizing these challenges, President Obama has made a personal commitment to improving food safety. On July 7, 2009, the multiagency Food Safety Working Group (Working Group), which he established, issued its key findings on how to upgrade the food safety system for the 21st century. The Working Group recommends a new public-health-focused approach to food safety based on three core principles: Prioritizing prevention, strengthening surveillance and enforcement, and improving response and recovery. Preventing harm to consumers is the top priority. Too often in the past, the food safety system has focused on reacting to problems rather than preventing harm in the first place. The Working Group recommends that food regulators shift toward prioritizing prevention and move aggressively to implement sensible measures to prevent problems before they occur.

The intent is to fund a proposal for the continued development and operation of collaborative online tools involving a range of stakeholders for the purposes of information sharing in the development of an integrated food safety system and the development and implementation of a sustainable model for continued collaborative communication and information sharing.

C. Eligibility Information

Competition is limited to NCFPD because it has unique expertise and capacity found nowhere else. It is the host/creator of FoodSHIELD, an inter-governmental collaborative project that supports information sharing at the Federal, State, and local levels. NCFPD is uniquely qualified to provide well-established and high-level access to Food/Ag Sector Organizations and coordination of electronic collaborative tools, as well as collaborative support from the Department of Health and Human Services, the Department of Homeland Security, and the U.S. Department of Agriculture. NCFPD also has past experience directly supporting the White House Food Safety Working Group Objectives to integrate the food safety system at all levels.

II. Award Information/Funds Available

A. Award Amount

The estimated amount of support in FY10 will be up to $250,000 total costs, with the possibility of up to 5 additional years of support at $500,000 per year, subject to the availability of funds, starting no later than September 2010 for the first year. More than one application will be considered depending on the availability of funds.

B. Length of Support

The award will provide 1 year of support, with the possibility of up to 5 additional years of support.

III. Paper Application, Registration, and Submission Information

To submit an electronic application in response to this FOA, applicants should first review the full announcement located at http://inside.fda.gov:9003/PolicyProcedures/GuidanceRegulations/FederalRegister/ucm008714.htm. Persons interested in applying for a grant may obtain an application at http://grants.nih.gov/grants/forms.htm. (FDA has verified the Web site addresses throughout this document, but FDA is not responsible for any subsequent changes to the Web sites after this document publishes in the Federal Register.) For all application submissions, the following steps are required:

• Step 1: Obtain a Dun and Bradstreet (DUNS) Number

• Step 2: Register With Central Contractor Registration

• Step 3: Register With Electronic Research Administration (eRA) Commons

Steps 1 and 2, in detail, can be found at http://www07.grants.gov/applicants/organization_registration.jsp. Step 3, in detail, can be found at https://commons.era.nih.gov/commons/registration/registrationInstructions.jsp. After you have followed these steps, submit paper applications to:

Kimberly Pendleton, Division of Acquisition Support and Grants (HFA-500), Food and Drug Administration, 5630 Fishers Lane, rm. 2104, Rockville, MD 20857, 301-827-9363, FAX: 301-827-7101, email: Kimberly.Pendleton@fda.hhs.gov.

Dated: September 10, 2010.
Leslie Kux,
Acting Assistant Commissioner for Policy.

[FR Doc. 2010-22971 Filed 9-14-10; 8:45 am]

BILLING CODE 4160-01-S